DEPARTMENT OF HEALTH AND HUMAN SERVICES

Centers for Disease Control and Prevention

Advisory Committee on Immunization Practices: Notice of Charter Renewal

This gives notice under the Federal Advisory Committee Act (P.L. 92-463) of October 6, 1972, that the Advisory Committee on Immunization Practices (ACIP), Centers for Disease Control and Prevention (CDC), Department of Health and Human Services, has been renewed for a 2-year period beginning April 1, 2000, through April 1, 2002.

For further information, contact Dixie E. Snider, Jr., M.D., Executive Secretary, ACIP, CDC, 1600 Clifton Road, NE, ­(M/S D-50), telephone 404/639-7240 or fax 404/639-7341.

The Director, Management Analysis and Services Office, has been delegated the authority to sign Federal Register notices pertaining to announcements of meetings and other committee management activities for both CDC and ATSDR.

Dated: September 19, 2000.
Carolyn J. Russell,
Director, Management Analysis and Services Office, Centers for Disease Control and Prevention.

[FR Doc. 00-24624 Filed 9-25-00; 8:45 am]

BILLING CODE 4861-18-P